DEPARTMENT OF ENERGY

Federal Energy Regulatory Commission

Combined Notice of Filings #1

Take notice that the Commission received the following electric corporate filings:

Docket Numbers: EC18-43-000.

Applicants: South Central MCN LLC.

Description: Application of South Central MCN LLC for Authorization under Section 203 of the Federal Power Act, et al.

Filed Date: 12/29/17.

Accession Number: 20171229-5213.

Comments Due: 5 p.m. ET 1/19/18.

Docket Numbers: EC18-44-000.

Applicants: Otter Tail Power Company.

Description: Request For Approvals Pursuant to Section 203 of the Federal Power Act of Otter Tail Power Company.

Filed Date: 12/29/17.

Accession Number: 20171229-5234.

Comments Due: 5 p.m. ET 1/19/18.

Take notice that the Commission received the following exempt wholesale generator filings:

Docket Numbers: EG18-26-000.

Applicants: Lincoln Clean Energy, LLC.

Description: Notice of Self-Certification of Exempt Wholesale Generator Status (Tahoka Wind, LLC).

Filed Date: 12/29/17.

Accession Number: 20171229-5278.

Comments Due: 5 p.m. ET 1/19/18.

Take notice that the Commission received the following electric rate filings:

Docket Numbers: ER10-3199-004.

Applicants: MDU Resources Inc.

Description: Updated Market Analysis in the Central Region of MDU Resources Inc.

Filed Date: 12/29/17.

Accession Number: 20171229-5282.

Comments Due: 5 p.m. ET 2/27/18.

Docket Numbers: ER15-1596-005; ER15-1599-005; ER14-1569-006; ER10-2616-012; ER11-4398-007; ER11-4400-009; ER15-1958-004; ER10-3247-012; ER14-922-005; ER14-883-007; ER14-924-005; ER15-2535-002.

Applicants: Dynegy Commercial Asset Management, LLC, Dynegy Energy Services (East), LLC, Dynegy Energy Services, LLC, Dynegy Marketing and Trade, LLC, Dynegy Midwest Generation, LLC, Dynegy Power Marketing, LLC, Dynegy Resources Management, LLC, Electric Energy, Inc., Illinois Power Generating Company, Illinois Power Marketing Company, Illinois Power Resources Generating, LLC, Midwest Electric Power, Inc.

Description: Updated Market Power Analysis of the Dynegy Central MBR Sellers.

Filed Date: 12/29/17.

Accession Number: 20171229-5225.

Comments Due: 5 p.m. ET 2/27/18.

Docket Numbers: ER18-573-000.

Applicants: Montpelier Generating Station, LLC.

Description: § 205(d) Rate Filing: Reactive Power Rate Schedule to be effective 12/31/9998.

Filed Date: 12/29/17.

Accession Number: 20171229-5204.

Comments Due: 5 p.m. ET 1/19/18.

Docket Numbers: ER18-574-000.

Applicants: Monument Generating Station, LLC.

Description: § 205(d) Rate Filing: Reactive Power Rate Schedule to be effective 12/31/9998.

Filed Date: 12/29/17.

Accession Number: 20171229-5205.

Comments Due: 5 p.m. ET 1/19/18.

Docket Numbers: ER18-575-000.

Applicants: O.H. Hutchings CT, LLC.

Description: § 205(d) Rate Filing: Reactive Power Rate Schedule to be effective 12/31/9998.

Filed Date: 12/29/17.

Accession Number: 20171229-5206.

Comments Due: 5 p.m. ET 1/19/18.

Docket Numbers: ER18-576-000.

Applicants: Sidney, LLC.

Description: § 205(d) Rate Filing: Reactive Power Rate Schedule to be effective 12/31/9998.

Filed Date: 12/29/17.

Accession Number: 20171229-5207.

Comments Due: 5 p.m. ET 1/19/18.

Docket Numbers: ER18-577-000.

Applicants: Tait Electric Generating Station, LLC.

Description: § 205(d) Rate Filing: Reactive Power Rate Schedule to be effective 12/31/9998.

Filed Date: 12/29/17.

Accession Number: 20171229-5208.

Comments Due: 5 p.m. ET 1/19/18.

Docket Numbers: ER18-578-000.

Applicants: Yankee Street, LLC.

Description: § 205(d) Rate Filing: Reactive Power Rate Schedule to be effective 12/31/9998.

Filed Date: 12/29/17.

Accession Number: 20171229-5209.

Comments Due: 5 p.m. ET 1/19/18.

Docket Numbers: ER18-579-000.

Applicants: PJM Interconnection, L.L.C.

Description: § 205(d) Rate Filing: Revisions to OATT Sch 12-Appdx and Appdx A re: 2018 RTEP Annual Cost Allocations to be effective 1/1/2018.

Filed Date: 12/29/17.

Accession Number: 20171229-5210.

Comments Due: 5 p.m. ET 1/19/18.

Docket Numbers: ER18-580-000.

Applicants: PE Berkeley, Inc.

Description: Tariff Cancellation: PE Berkeley Notice of Cancellation to be effective 1/2/2018.

Filed Date: 1/2/18.

Accession Number: 20180102-5000.

Comments Due: 5 p.m. ET 1/23/18.

Docket Numbers: ER18-581-000.

Applicants: Public Service Company of New Mexico.

Description: Initial rate filing: 62 MW TSA No. 493 between PNM and Avangrid Renewables to be effective 12/18/2017.

Filed Date: 1/2/18.

Accession Number: 20180102-5223.

Comments Due: 5 p.m. ET 1/23/18.

Docket Numbers: ER18-582-000.

Applicants: Public Service Company of New Mexico.

Description: Initial rate filing: 100 MW TSA No. 494 between PNM and Avangrid Renewables to be effective 12/18/2017.

Filed Date: 1/2/18.

Accession Number: 20180102-5224.

Comments Due: 5 p.m. ET 1/23/18.

Docket Numbers: ER18-583-000.

Applicants: Public Service Company of New Mexico.

Description: Initial rate filing: 100 MW TSA No. 495 between PNM and Avangrid Renewables to be effective 12/18/2017.

Filed Date: 1/2/18.

Accession Number: 20180102-5225.

Comments Due: 5 p.m. ET 1/23/18.

Docket Numbers: ER18-584-000.

Applicants: Public Service Company of New Mexico.

Description: § 205(d) Rate Filing: 100 MW First Revised TSA No. 494 between PNM and Avangrid Renewables to be effective 12/20/2017.

Filed Date: 1/2/18.

Accession Number: 20180102-5226.

Comments Due: 5 p.m. ET 1/23/18.

Docket Numbers: ER18-585-000.

Applicants: Public Service Company of New Mexico.

Description: § 205(d) Rate Filing: 100 MW First Revised TSA No. 495 between PNM and Avangrid Renewables to be effective 12/20/2017.

Filed Date: 1/2/18.

Accession Number: 20180102-5227.

Comments Due: 5 p.m. ET 1/23/18.

Docket Numbers: ER18-586-000.

Applicants: PJM Interconnection, L.L.C.

Description: § 205(d) Rate Filing: Queue Position AC2-137, Original Service Agreement No. 4880 to be effective 12/1/2017.

Filed Date: 1/2/18.

Accession Number: 20180102-5228.

Comments Due: 5 p.m. ET 1/23/18.

Docket Numbers: ER18-587-000.

Applicants: Tucson Electric Power Company.

Description: § 205(d) Rate Filing: Generator Interconnection Agreement to be effective 3/5/2018.

Filed Date: 1/2/18.

Accession Number: 20180102-5323.

Comments Due: 5 p.m. ET 1/23/18.

Take notice that the Commission received the following electric securities filings:

Docket Numbers: ES18-18-000.

Applicants: Michigan Electric Transmission Company, LLC.

Description: Application of Michigan Electric Transmission Company, LLC under Section 204 of the Federal Power Act.

Filed Date: 1/2/18.

Accession Number: 20180102-5106.

Comments Due: 5 p.m. ET 1/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2018.
Nathaniel J. Davis, Sr.,
Deputy Secretary.

[FR Doc. 2018-00097 Filed 1-5-18; 8:45 am]

BILLING CODE 6717-01-P